DEPARTMENT OF COMMERCE

[I.D. 101901C ]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: National Marine Sanctuary Permits.

Form Number(s): None.

OMB Approval Number: 0648-0141.

Type of Request: Regular submission.

Burden Hours: 1,018.

Number of Respondents: 336.

Average Hours Per Response: 1 hour for a general permit application; 15 minutes for a baitfish permit application; 13 hours for a historical resource permit application; 24 hours for a special use permit application; 1 hour for a notification of other agency permits or requests; 15 minutes for a permit amendment; 30 minutes for a request for certification of a pre-existing lease, license or permit; 15 minutes for an entry to a voluntary registry of activities; and 90 minutes for a appeal of an application rejection.

Needs and Uses: National Marine Sanctuary (NMS) regulations list specific activities that are prohibited in the sanctuaries. These otherwise-prohibited activities are permissible if a permit is issued by the NMS program. Persons wanting permits must submit applications, and persons obtaining permits must submit reports on the activity conducted under the permit. The information is needed by NMS to protect and manage the sanctuaries.

Affected Public: Not-for-profit institutions, individuals or households, business or other for-profit organizations, and State, local, or tribal government.

Frequency: On occasion, annually.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 17, 2001.
Gwellnar Banks,
Management Analyst, Office of the Chief Information Officer.

[FR Doc. 01-26793 Filed 10-23-01; 8:45 am]

BILLING CODE 3510-NK-S